NATIONAL SCIENCE FOUNDATION

Sunshine Act Meetings

The National Science Board's (NSB) Committee on Oversight hereby gives notice of the scheduling of a videoconference meeting for the transaction of National Science Board business pursuant to the National Science Foundation Act and the Government in the Sunshine Act.

TIME AND DATE: Wednesday, March 15, 2023, from 10:30-11:30 a.m. EDT.

PLACE: This meeting will be held by videoconference through the National Science Foundation.

STATUS: Open.

MATTERS TO BE CONSIDERED: The agenda of the meeting is: Committee Chair's opening remarks and welcome new members; Approval of prior minutes; Presentations and Discussion of the FY 2021 Merit Review Digest, NSF biennial survey of proposers and Reviewers, and consideration of future formats; the Chief Financial Officer update and presentation; and Committee Chair's closing remarks.

CONTACT PERSON FOR MORE INFORMATION: Point of contact for this meeting is: (Chris Blair, cblair@nsf.gov), 703/292-7000. Members of the public can observe this meeting through a You Tube livestream. The YouTube link will be available from the NSB meetings web page— https://www.nsf.gov/nsb/meetings/index.jsp.

Christopher Blair,
Executive Assistant to the National Science Board Office.

[FR Doc. 2023-05063 Filed 3-8-23; 11:15 am]

BILLING CODE 7555-01-P